DEPARTMENT OF ENERGY

Federal Energy Regulatory Commission

[Docket No. EL18-140-000]

Consumers Energy Company, Interstate Power and Light Company, Midwest Municipal Transmission Group, Missouri River Energy Services, Southern Minnesota Municipal Power Agency, WPPI Energy v. International Transmission Company, ITC Midwest, LLC, Michigan Electric Transmission Company; Notice of Complaint

Take notice that on April 20, 2018, pursuant sections 206 and 306 of the Federal Power Act ¹ and Rule 206 of the Federal Energy Regulatory Commission's (Commission) Rules of Practice and Procedure,² Consumers Energy Company, Interstate Power and Light Company, Midwest Municipal Transmission Group, Missouri River Energy Services, Southern Minnesota Municipal Power Agency, and WPPI Energy (collectively, Complainants) filed a formal complaint (complaint) against International Transmission Company, ITC Midwest, LLC, and Michigan Electric Transmission Company (collectively, Respondents) alleging that Respondents are no longer entitled to collect the Independence return on equity adder because they are now affiliated with Eastern-Interconnection Market Participants, all as more fully explained in the complaint.

¹ 16 U.S.C. 791a-828c, 824e, and 825e.

² 18 CFR 385.206.

Complainants certify that copies of the complaint were served on contacts for Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 10, 2018.

Dated: April 23, 2018.
Nathaniel J. Davis, Sr.,
Deputy Secretary.

[FR Doc. 2018-08861 Filed 4-26-18; 8:45 am]

BILLING CODE 6717-01-P